DEPARTMENT OF THE INTERIOR

Bureau of Land Management

[FF02R05000/FSRS34510200000/AZA-38417]

Notice of Proposed Withdrawal and Opportunity for Public Meeting for the Bill Williams River National Wildlife Refuge, Arizona

AGENCY: Bureau of Land Management, Interior.

ACTION: Notice.

SUMMARY: On behalf of the United States Fish and Wildlife Service (FWS) and subject to valid existing rights, the Deputy Secretary of the Interior proposes to withdraw 1,464 acres of public lands from appropriation under the public land laws, including location and entry under the United States mining laws, and 1,134 acres of Federal surface estate public lands from appropriation under the public land laws for 100 years to protect and reserve the land for management as part of the Bill Williams River National Wildlife Refuge (NWR) located in La Paz and Mohave Counties, Arizona. Publication of this notice temporarily segregates the lands for up to two-years and announces to the public an opportunity to comment and request a public meeting on the proposed withdrawal.

DATES: Comments and requests for a public meeting must be received by January 6, 2022.

ADDRESSES: All comments and meeting requests should be sent to the Bureau of Land Management (BLM) Arizona State Office, 1 North Central Avenue, Suite 800, Phoenix, AZ 85004; faxed to (602) 417-9452; or sent by email to BLM_AZ_Withdrawal_Comments@blm.gov. The BLM will not consider comments via telephone calls.

FOR FURTHER INFORMATION CONTACT: Mike Ouellett, Realty Specialist, BLM Arizona State Office, telephone: (602) 417-9561, email at mouellett@blm.gov; or you may contact the BLM office at the address noted above. Persons who use a telecommunications device for the deaf (TDD) may call the Federal Relay Service (FRS) at 1-800-877-8339 to contact the above individual during normal business hours. The FRS is available 24 hours a day, 7 days a week, to leave a message or question. You will receive a reply during normal business hours.

SUPPLEMENTARY INFORMATION: The applicant is the FWS, and its petition/application requests the Deputy Secretary of the Interior withdraw the following described public lands from all forms of appropriation under the public land laws, including location and entry under the United States mining laws, subject to valid existing rights, and reserve them for wildlife refuge purposes for a 100-year term.

Gila and Salt River Meridian, Arizona

(Surface and Subsurface Estate Land)

T. 11 N., R. 17 W.,

Sec. 20, E½, E½NW¼, NE¼SW¼, S½SW¼;

Sec. 25, S½SE¼;

Sec. 26, SE¼SW¼, S½SE¼;

Sec. 28, N½, N½SW¼, SE¼SW¼, SE¼SE¼;

Sec. 34, N½NE¼, SE¼NE¼, N½NW¼;

Sec. 36, N½SE¼NE¼.

T. 11 N., R. 18 W.,

Sec. 12, SW¼SW¼ that portion lying northerly of the Havasu Lake National Wildlife Refuge boundary, as described in Executive Order 8647 of January 22, 1941, and southwesterly of the southwesterly right-of-way line of State Highway 95;

Sec. 24, NE¼NE¼.

The areas described aggregate approximately 1464 acres.

The petition/application further requests that the Deputy Secretary of the Interior withdraw the following described public lands (surface estate only) from all forms of appropriation under the public land laws, subject to valid existing rights, and reserve them for wildlife refuge purposes for a 100-year term:

Gila and Salt River Meridian, Arizona

(Surface Estate Land)

T. 11 N., R. 17 W.,

Sec. 19, lot 2, NE¼SW¼, S½SE¼;

Sec. 21, SW¼SW¼;

Sec. 25, S½SW¼;

Sec. 27, SW¼NE¼, S½NW¼;

Sec. 29, E½NW¼;

Sec. 33, S½NE¼, SE¼NW¼;

Sec. 35, N½NE¼, S½NE¼SW¼, NW¼SW¼, S½NW¼SE¼.

T. 11 N., R. 18 W.,

Sec. 11, those portions of the SW¼NE¼, W½NW¼, SE¼NW¼, NE¼SW¼, N½NW¼SW¼, N½SE¼SW¼, NE¼SE¼, W½SE¼, SE¼SE¼ lying northerly of the Havasu Lake National Wildlife boundary, as described in Executive Order 8647 of January 22,1941, and southerly of the southwesterly right-of-way line of State Route 95.

Sec. 13, those portions of the W½NE¼SW¼, NW¼SW¼, SE¼SW¼, S½SW¼SE¼, SW¼SE¼SE¼ lying southerly of the Havasu Lake National Wildlife boundary, as described in Executive Order 8647 of January 22, 1941.

The areas described aggregate approximately 1,134 acres.

The Deputy Secretary of the Interior approved the FWS's petition. Therefore, the petition/application constitutes a withdrawal proposal of the Secretary of the Interior (43 CFR 2310.1-3(e)).

The use of a right-of-way, interagency agreement, or cooperative agreement would not provide adequate protection of the wildlife refuge.

No additional water rights will fulfill the purpose of this new withdrawal.

There are no suitable alternative sites since these lands are located within the Bill Williams River NWR.

Before including your address, phone number, email address, or other personal identifying information in your comment, you should be aware that your entire comment, including your personal identifying information, may be made publicly available at any time. While you can ask us in your comment to withhold your personal identifying information from public review, we cannot guarantee that we will be able to do so.

Notice is hereby given that an opportunity for a public meeting is afforded in connection with the proposed withdrawal. All interested persons who desire a public meeting for the purpose of being heard on the proposed withdrawal must submit a written request to the BLM Arizona State Director no later than January 6, 2022. If the authorized officer determines that a public meeting will be held, a notice of the time and place will be published in the Federal Register and a local newspaper at least 30 days before the scheduled date of the meeting.

For a period until October 9, 2023 the lands described above will be segregated from all forms of appropriation under the public land laws, unless the application is denied or canceled, or the withdrawal is approved prior to that date. This application will be processed in accordance with the regulations set-forth in 43 CFR part 2300.

Raymond Suazo,
State Director.

[FR Doc. 2021-22039 Filed 10-7-21; 8:45 am]

BILLING CODE 4333-15-P